ENVIRONMENTAL PROTECTION AGENCY

40 CFR Part 300

[FRL-7924-4]

National Oil and Hazardous Substance Pollution Contingency Plan National Priorities List

AGENCY: Environmental Protection Agency.

ACTION: Notice of intent to delete the Metropolitan Mirror and Glass (MM&G) Superfund Site from the National Priorities List.

SUMMARY: The Environmental Protection Agency (EPA) Region 3 is issuing a notice of intent to delete MM&G Superfund Site (Site) located in Frackville, Schuylkill County, Commonwealth of Pennsylvania, from the National Priorities List (NPL) and requests public comments on this notice of intent. The NPL, promulgated pursuant to section 105 of the Comprehensive Environmental Response, Compensation, and Liability Act (CERCLA) of 1980, as amended, is found at appendix B of 40 CFR part 300 which is the National Oil and Hazardous Substances Pollution Contingency Plan (NCP). The EPA and the State of Pennsylvania, through the Pennsylvania Department of Environmental Protection (PADEP), have determined that all appropriate response actions under CERCLA have been completed. However, this deletion does not preclude future actions under Superfund.

In the “Rules and Regulations” section of today's Federal Register, EPA is publishing a direct final notice of deletion of MM&G Superfund Site without prior notice of intent to delete because EPA views this as a noncontroversial revision and anticipate no adverse comment. EPA has explained its reasons for this deletion in the preamble to the direct final notice of deletion. If no adverse comment(s) are received on this notice of intent to delete or the direct final notice of deletion, EPA will not take further action on this notice of intent to delete. If adverse comment(s) are received, EPA will withdraw the direct final notice of deletion and it will not take effect. EPA will, as appropriate, address all public comments in a subsequent final deletion notice based on this notice of intent to delete. EPA will not institute a second comment period on this notice of intent to delete. Any parties interested in commenting must do so at this time. For additional information, see the direct final notice of deletion which is located in the Rules section of this Federal Register.

DATES: Comments concerning this Site must be received by July 18, 2005.

ADDRESSES: Written comments should be addressed to: David Polish, Community Involvement Coordinator, U.S. EPA (3HS43), 1650 Arch Street, Philadelphia, PA 19103-2029, polish.david@epa.gov, (215) 814-3327 or (800) 553-2509.

FOR FURTHER INFORMATION CONTACT: Eugene Dennis, Remedial Project Manager, U.S. EPA (3HS21), 1650 Arch Street, Philadelphia, PA 19103-2029, (215) 814-3202 or (800) 553-2509.

SUPPLEMENTARY INFORMATION: For additional information, see the Direct Final Notice of Deletion which is located in the Rules section of this Federal Register.

Information Repositories: Repositories have been established to provide detailed information concerning this decision at the following address: U.S. EPA Region 3 Regional Center for Environmental Information, 1650 Arch Street, Philadelphia, Pennsylvania, 19103, (215) 814-5254 or (800) 553-2509, Monday through Friday 8 a.m. to 4:30 p.m.; West Mahanoy Township Building, 190 Pennsylvania Avenue, Shenandoah, Pennsylvania 17976, (570) 462-2958.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O 12777, 56 FR 54757, 3 CFR, 1991 Comp., p.351; E.O. 12580, 52 FR 2923; 3 CFR, 1987 Comp., p193.

Dated: May 31, 2005.
Richard J. Kampf,
Acting Regional Administrator, Region 3.

[FR Doc. 05-11828 Filed 6-16-05; 8:45 am]

BILLING CODE 6560-50-P